DEPARTMENT OF VETERANS AFFAIRS

Homeless Providers Grant and Per Diem Program

AGENCY: Veterans Health Administration, Department of Veterans Affairs.

ACTION: Notice of funding availability (NOFA).

SUMMARY: The Department of Veterans Affairs (VA) is announcing the availability of funds for assistance under the Per Diem Only component of VA's Homeless Providers Grant and Per Diem (GPD) Program. This Notice of Funding Availability (NOFA) encourages reapplication for those applicants who seek to continue providing “Transition in Place” (TIP) grants and new applicants that will serve the homeless Veteran population through a TIP housing model to facilitate housing stabilization. This Notice contains information concerning the program, funding priorities, application process, and amount of funding available.

DATES: An original signed, dated, and collated grant application (plus two completed collated copies) for assistance under VA's Homeless Providers GPD Program must be received in the GPD Program Office, by 4:00 p.m. Eastern Time on Wednesday, February 21, 2018 (see Submission Dates and Times below for additional requirements).

In the interest of fairness to all competing applicants, this deadline is firm as to date and hour, and VA will treat as ineligible for consideration any application that is received after the deadline. Applicants should take this practice into account and make early submission of their material to avoid any risk of loss of eligibility brought about by unanticipated delays or other delivery-related problems.

ADDRESSES: An original signed, complete, and collated grant application (plus two copies) must be submitted to the following address: VA Homeless Providers Grant and Per Diem Field Office, 10770 N. 46th Street, Suite C-200, Tampa, Florida 33617.

FOR FURTHER INFORMATION CONTACT: Mr. Jeffery Quarles, Director, VA's Homeless Providers Grant and Per Diem Program, Department of Veterans Affairs, 10770 North 46th Street, Suite C-200, Tampa, Florida, 33617; (toll-free) (877) 332- 0334.

SUPPLEMENTARY INFORMATION:

Funding Opportuity Description

This Notice announces the availability of per diem funds for assistance under VA's Homeless Providers GPD Program TIP Per Diem Only (PDO) for eligible entities. Applicants may apply for a minimum of 5 beds and up to a maximum of 25 beds under this NOFA as a part of the effort to end homelessness among our Nation's Veterans.

Housing Model Description

Transition in Place Model (TIP)

Targeted Population—Homeless Veterans who choose a supportive transitional housing environment providing services prior to entering permanent housing.

Model Overview—Provides transitional housing and a milieu of services that facilitate individual stabilization and movement of the Veteran to permanent housing in the residence as rapidly as clinically appropriate.

Characteristics & Standards—The TIP housing model offers Veteran residents housing in which support services transition out of the residence over time, rather than the resident. This leaves the resident in place at the residence and not forced to find other housing while stabilizing. It is expected that Veterans will transition in place in approximately 6 to 12 months. Extensions may be granted after 12 months but not to exceed 24 months. This model does not support discharge planning that would have the Veteran transition to Housing and Urban Development-VA Supportive Housing (HUD-VASH) as the HUD-VASH Program targets a Veteran population in need of specialized case management.

Scope of services should incorporate tactics to increase the Veteran's income through employment and/or benefits and securing the permanent housing in the Veteran's name. Services provided and strategies utilized by the applicant will vary based on the individualized needs of the Veteran and resources available in the community. Applicant specifies the staffing levels and range of services to be provided.

Applicants identify or convert existing suitable apartment-style housing where homeless Veteran participants would receive time-limited, supportive services optimally for a period of 6-12 months, but not to exceed 24 months. Upon completion, the Veteran must be able to “transition in place” by assuming the lease or other long-term agreement which enables the unit in which he or she resides to be considered the Veteran's permanent housing. Grantees are expected to replace units as they are converted to permanent housing to maintain the average number of bed days as stated in the application during the entire grant period. Once the Veteran assumes the lease or other long-term agreement, VA will no longer provide funding for the unit under this NOFA. For example, each time a Veteran assumes the lease or other long-term agreement for the apartment, the grantee must identify a new unit in which to place another Veteran. By program design, transition to permanent housing should occur as rapidly as possible, and grantees should continually be acquiring and coordinating with VA on the inspection of new units to maintain a steady number of Veterans served.

Applicants applying under this NOFA must own or lease apartments intended as permanent housing for an individual or single family. Apartments must meet the inspection standards outlined at title 38 Code of Federal Regulations (CFR) 61.80, and have the following characteristics:

1. Private access without unauthorized passage through another dwelling unit or private property;

2. Sanitary facilities within the unit;

3. Basic furnishings; and

4. Suitable space and equipment within the unit to store, prepare, and serve food in a sanitary manner (including, at a minimum, a refrigerator, freezer, sink, and stove). Note: Microwave ovens, hot plates, or similar items are not suitable substitutes for an operational stove.

Required Minimum Performance Metrics/Targets: VA has established performance metrics/targets for all successful applicants. Discharge to permanent housing is 75 percent; employment of individuals at discharge is 50 percent; and negative exits are less than 28 percent.

Participant Agreement Information

Lease Guarantors: When a third party (in this case the grantee) guarantees to pay the lease costs if the lessee (in this case the Veteran) defaults. This is not allowed under this program.

Sub-lease: The sub-lease is “[a] lease by a lessee (in this case the grantee) to a third party (the Veteran) conveying the leased property for a shorter term than that of the lessee, who retains a reversion in the lease.” For the sake of clarity, in a sub-lease TIP housing scenario, the landlord is the lessor, the grantee is the lessee, and the Veteran is the sub-lessee.

GPD TIP Grantees may use sub-leases during the transitional housing phase if the sub-lease has been approved by the GPD Program Office and the sub-lease must meet the following conditions:

1. Period of sub-lease must be less than entire period of the grantee's lease with the landlord.

2. Grantee lease renewal must be taken into consideration when stating the period of the sub-lease.

3. Sub-lease must be explicit that the grantee is the lessee, not the Veteran.

4. Sub-lease must revert back to the grantee lessee without sanctions to the Veteran should the Veteran leave prior to program completion and lease assumption.

5. Sub-lease may not contain requirements contrary to GPD regulations.

6. Security deposits may not be charged to Veterans. However, grantee lessees may take other available and appropriate legal steps in situations of property destruction.

Lease Assumption: When a third party (in this case the Veteran) assumes a lease, the original lessee does not retain any interest in the lease.

Low Income Housing Tax Credits: Grantees that use tax credit programs may request that Veterans fill out a tax credit application, as there is no prohibition in GPD regulation. The issues that could arise are operational and specific to GPD TIP. Here are two examples.

Example 1. Under the GPD TIP for which the grantee is funded, the Veteran may not “assume” a lease until the transitional housing phase is complete. A sub-lease may be used as long as it meets the requirements above. If the grantee is not leasing from another landlord, it will make a difference. As the relationship changes, the grantee is the lessor and the Veteran becomes the lessee. This is not a sub-lease. In this case some other form of program agreement may have to be used that meets the elements of items 4, 5 and 6 above and meets tax credit requirements.

Example 2. Income under tax credits is calculated differently than in GPD. The grantee must follow GPD regulations during the transitional phase, and only the Veteran's income may be counted as defined in 38 CFR 61.82. When the Veteran completes the program and then “assumes” the lease, the calculation of income will revert to the tax credit requirements. The Veteran should be apprised of this prior to program entry so appropriate planning can be put into place

Eligibility Information: Existing nonprofit organizations recognized as section 501(c)(3) or 501(c)(19) nonprofit organizations by the United States Internal Revenue Service, existing state and local governments, Indian Tribal Governments, and faith-based and community-based organizations that are capable of creating and providing supported transitional housing for homeless Veterans are eligible under this NOFA. Organizations meeting the requirements above and located in the District of Columbia, the Commonwealth of Puerto Rico, any territory or possession of the United States, are also considered eligible entities (see definition of “State” in 38 CFR 61.1).

Authority: Funding applied for under this NOFA is authorized by 38 U.S.C. 2011, 2012, 2013.

Award Information

Overview: This NOFA announces the availability of per diem funds for assistance under the PDO component of VA's Homeless Providers GPD Program. This NOFA encourages reapplication for those applicants who seek to continue providing TIP grants and new applicants that will serve the homeless Veteran population through a TIP housing model to facilitate housing stabilization. VA expects to fund approximately 500 beds over a 2-year period under this NOFA. Approximately $25 million is available to support an average of 25 beds per night, per project.

Cost Sharing or Matching: None.

Funding Period: Funding awarded under this NOFA will be for a period of two-years.

Payment: VA payment is limited to the applicant's cost of care per eligible Veteran minus other sources of payments to the applicant for furnishing services to homeless Veterans up to the per day rate. Per diem will be paid in a method that is in accordance with VA and other Federal fiscal requirements. The per diem payment will be at a rate not to exceed 1.5 times the current VA state home program per diem rate for domiciliary care as set by the Secretary under 38 United States Code (U.S.C.)1741(a)(1). Awardees will be subject to requirements of this NOFA, GPD regulations, 2 CFR 200, and other Federal grant requirements. A full copy of the regulations governing the GPD Program is available at the GPD Web site at http://www.va.gov/HOMELESS/GPD.asp.

Funding Priorities: None.

Application Review Information: Of those eligible entities that are legally fundable, the highest-ranked applications for which funding is available will be conditionally selected for eligibility to receive a per diem only award in accordance with their ranked order until the approximate number of beds are reached (approximately 500).

A. Criteria for Grants: Rating criteria may be found at 38 CFR 61.13 & 61.32.

B. Review and Selection Process: Review and selection process may be found at 38 CFR 61.13, 61.32.

Allocation of Funds: Approximately $25 million is available for this grant component. The maximum amount of the per diem award any awardee receives may not exceed $1.25 million for the entire grant period. Funding for the entire grant period will be obligated at the time of the award and available for draw down by the grantee over the grant period. Monthly reimbursements will be issued for bed days of care provided based upon the project's approved per diem rate. VA will not award more than $50,000.00 per bed over the entire two-year grant period based on the average number of beds to be provided as stated in the grant application.

Funding Actions: Conditionally selected applicants will complete a grant funding agreement with VA in accordance with 38 CFR 61.61 and provide any additional information as required by VA. Upon signature by the Secretary or designated representative, final selection will be completed.

Grant Award Period: For the purposes of this NOFA, the award period will be approximately two (2) years beginning on October 1, 2018, and ending approximately on September 30, 2020. Specific start and end dates will be included in the grant agreement between final selectees and the Department of Veterans Affairs. The award period will not exceed 2 years.

All projects are expected to pass inspection and become operational within 90 days from the date of award. Failure to meet the 90-day milestone may result in the per diem award being terminated.

Funding Restrictions: No part of an award under this NOFA may be used to facilitate capital improvements or to purchase vans or real property. Questions regarding acceptability should be directed to VA's National GPD Program Office at the number listed in contact information. Applicants may not receive funding to replace funds provided by any Federal, state, or local Government agency or program to assist homeless persons.

Cost Sharing or Matching: None.

Application and Submission Information: Applicants should be careful to complete the proper application package. Submission of the incorrect or incomplete application package will result in the application being rejected. The package will consist of two parts. The first part will be the standard forms required for grants to include all required forms and certifications and will be provided by VA on the GPD Web Site. The second part will be provided by applicants completing the items as listed below (see Application Requirements). Applicants who are conditionally selected will be notified of any additional information needed to confirm or clarify information provided in the application. Applicants will then be notified of the deadline to submit such information. If an applicant is unable to meet any conditions for grant award within the specified time frame, VA reserves the right to not award funds and to use the funds available for other grant and per diem applicants.

Address To Obtain Standard Grant Forms for Application Package: Download the standard grant forms directly from VA's Grant and Per Diem Program web page at: http://www.va.gov/HOMELESS/GPD.asp. Questions should be referred to the GPD Program at (toll-free) 1-877-332-0334.

Content and Form of Application: Applications must arrive as a complete package. Materials arriving separately will not be included in the application package for consideration and may result in the application being rejected or not funded.

Applicants should ensure that they include all required documents in their application and carefully follow the format described below. Submission of an incorrect, incomplete, or incorrectly formatted application package will result in the application being rejected. Applicants should ensure that the items listed in the “Application Requirements” section of this NOFA are addressed in their application.

Applicants should use a normal business format, single-spaced lines, typed, single sided pages, in Arial 12-point font. Applicants should write out the question first, followed by the respective response. The narrative outline should be labeled with the same titles and in the same order as this NOFA. Applicants should simply binder clip the application; do not staple, spiral bind, or fasten the application. Do not include brochures or other information not requested. The application consists of two parts. The first part will consist of Standard Forms and the second part will be provided by applicants and consist of a supporting documentation and project narratives and tables/spreadsheets in a standard business format.

Applicants should ensure that they include all required documents in their application, carefully follow the format, and provide the information requested and described below. Submission of an incorrect, incomplete, or incorrectly formatted application package will result in the application being rejected at the beginning of the process.

Application Documentation Required

1. Standard Forms (approximately 9 pages):

(a) SF 424 Application for Federal Assistance.

(b) SF 424 A Non-Construction Budget.

(c) SF 424 B Non-Construction Assurances.

2. Eligibility to Receive VA Assistance: (approximately 3 pages)

Nonprofit Organizations must provide documentation of accounting system certification and evidence of private nonprofit status by:

(a) Providing certification on letterhead stationery from a Certified Public Accountant or Public Accountant that the organization has a functioning accounting system that is operated in accordance with generally accepted accounting principles, or that the organization has designated a qualified entity to maintain a functioning accounting system. If such an entity is used, then their name and address must be included in the certification letter; and

(b) Providing evidence of their status as a nonprofit organization by submitting a copy of their IRS ruling providing tax-exempt status under the IRS Code of 1986, as amended.

3. Documentation of being actively registered in the System for Award Management (SAM) (approximately 1 page): Provide a printed copy of your agency's active registration in SAM to include the Data Universal Numbering System (DUNS) number which corresponds to the information provided on the Application for Federal assistance (SF424) and current Commercial and Government Entity (CAGE) code. Additionally, provide the complete legal business address that corresponds to the address registered with SAM to include the USPS five-digit zip code plus the four digit extension code.

4. State/Local Government Applicants: Applicants who are State or local governments must provide a copy of any comments or recommendations by approved State and (area wide) clearinghouses pursuant to Executive Order 12372.

5. Project Summary (approximately 1 page): Provide the following:

(a) Number of Beds to be provided under this TIP Model:

(b) Housing and services provided under this application will be located at:

Address:

City:

State:

Zip Code + 4 digit extension:

County the site is located in:

Additional Counties served by the project:

Congressional District:

6. Contact Information (approximately 4 pages): Where correspondence can be sent to the Executive Director/President/CEO.

(a) Please provide the following:

Agency Name:

Physical Address of Administrative Office (no PO Boxes):

City:

State:

Zip + 4 digit extension:

County:

Congressional District:

Telephone number:

Alternate Mailing Address (if you would prefer regular mail be sent to a PO Box):

City:

State:

Zip:

(b) Name and title of Executive Director/President/CEO; phone, fax and email address:

(c) Name and title of another management level employee and title, phone, fax and email address, who can sign commitments for the agency; and

(d) A complete listing of your agency's officers of the Board of Directors and their address, phone, fax, and email addresses.

7. Project Abstract: On not more than one page, provide a brief abstract of the project to include: The project design, supportive services committed to the project, types of assistance provided, and any special program provisions.

8. Detailed Project Plan: This is the portion of the application that describes your program. VA Reviewers will focus on how the project plan addresses the areas of outreach, project plan, model specific questions, ability, need, and coordination in relation to the TIP model.

VA expects applicants awarded under this NOFA will meet the VA performance metrics for the selected model. With those metrics in mind, please, in your agency's responses to the following sections, include your agency strategies to meet or exceed VA's national metric targets.

Applicants must address the following within the application:

(a) Outreach—In approximately 5 pages, describe your agency outreach plan by answering the following:

1. Outreach—describe your plan for selected Veteran population(s) living in places not ordinarily meant for human habitation (e.g. streets, parks abandon buildings, automobiles) and emergency shelters.

2. Outreach—identify where your organization will target its outreach efforts to identify appropriate Veterans for this program.

3. Outreach—Describe your involvement in the CoC's Coordinated Assessment/Entry efforts as it relates to your outreach plan.;

(b) Project Plan—VA wishes to provide the most appropriate housing based on the needs of the individual Veteran. In approximately 25 pages, provide the following:

1. Project Plan—Specifically, list the supportive services, frequency of occurrence and who will provide them, and how they will help Veteran participants achieve residential stability, increase skill levels and/or income, and increase self-determination (i.e., case management, frequency of individual/groups, employment services). Use a table or spreadsheet for this section. (See Example 3.)

Example 3:

Supportive service | Frequency of offering (daily, weekly, etc.) | Job title and credential required for the individual providing services | This service supports the achievement of residential stability, increase skill and income, or self-determination
Case management | Weekly | Case Manager—LCSW | Residential stability.
Financial Management Group | Bi-Weekly | Life Skills Educator—BA/BS | Increased Skills and Income.

2. Project Plan—VA places emphasis on lowing barriers to admissions; describe the specific process and admission criteria for deciding which Veterans are appropriate for admission.

3. Project Plan—Indicate whether you plan on serving a mixed gender population or individuals with children.

4. Project Plan—Provide a listing and explanation of any gender specific services.

5. Project Plan—How will the safety security and privacy of participants be ensured?

6. Project Plan—How, when, and by whom will the progress of participants toward meeting their individual goals be monitored, evaluated, and documented?

7. Project Plan—Provide your agency's Individual Service Plan (ISP) methodology and the core items to be addressed in the plan.

8. Project Plan—How will the transition to permanent affordable housing be identified in the ISP and made known to participants to plan for the participant taking on the lease?

9. Project Plan—Will your agency provide follow-up services? If yes, describe those services, how often they will occur, and the duration of the follow-up.

10. Project Plan—Describe how Veteran participants will have a voice and aid in the selection, operation, and maintenance of the housing.

11. Project Plan—Describe your agency's responsibilities, as well as any sponsors or contractors' responsibilities in operating and maintaining the housing (i.e. sub-recipients, leasing sites).

12. Project Plan—Describe program policies regarding a clean and sober environment. Include in the description how participant relapse will be handled and how these policies will affect the admission and discharge criteria.

13. Project Plan—Describe program polices regarding participant agreements, including any leases and sub-leases, if used.

14. Project Plan—Describe program polices regarding extracurricular fees.

15. Project Plan—If co-located with other types of housing, homeless populations, or with other non-grant and per diem projects, how will differences in program rules and policies be handled? (See example 2).

Example 2:

Your agency has permanent housing, bridge housing, and low demand housing. These all serve different populations and require different levels of policy to properly function. How will this be accomplished?

16. Project Plan—Describe how, using the TIP model, you will provide aid in increased income or benefits.

17. Project Plan—Address how your agency will facilitate the provision of nutritional meals for the Veterans. Be sure to describe how Veterans with little or no income will be assisted.

18. Project Plan—VA places great emphasis on placing Veterans in the most appropriate housing situation as rapidly as possible. In this section, provide a timetable and the specific services, to include follow-up, that support housing stabilization. Include evidence of coordination of transition services that your agency expects to have for Veterans.

19. Project Plan—Describe how you will facilitate transportation of Veteran participants with and without income to appointments, employment, and supportive services.

20. Project Plan—Describe when, and by whom, the progress of participants toward meeting their individual goals will be monitored, evaluated, and documented.

21. Project Plan—As this NOFA funding cannot be used for furnishings, describe how your agency will provide basic furnishings in the selected living quarters.

22. Project Plan—describe in this section how your agency will manage the conversion of the dwelling unit and the services provided to the participant from transitional phase to permanent housing and what follow-up services will be provided to the Veteran once converted to permanent housing. Additionally, describe the instrument that will be used (lease, program agreement, memorandum of understanding, etc.) to ensure the Veteran's permanent occupancy once the unit has converted. Moreover, include how this will enhance housing outcomes leading to more timely access to permanent housing.

23. Project Plan—Indicate whether shared apartments by unrelated individuals will be used; typically the TIP model is designed for an individual Veteran or a Veteran and family. However, if your agency plans to use a model in which roommates would share a living unit that would ultimately result in the roommates assuming the lease, your agency must describe how this process would be accomplished. The description must include the elements of section (n) above and the screening and selection process for roommates; responsibilities of each roommate, and how anomalies such as a roommate leaving or not meeting their responsibilities, will be addressed.

(c) Ability—In approximately 5 pages; describe your agency's experience regarding the TIP model and population.

1. Ability—Provide a table or spreadsheet of the staffing plan for this project. Do not include resumes.

Example 4:

Job title | Brief (1-2 sentence) description of responsibilities | Educational level | Hours per week allocated to GPD project | Amount of annual salary allocated to the GPD project ($)

2. Ability—Describe your agency's previous experience assessing and providing for the housing needs of homeless Veterans in transitional housing.

3. Ability—Describe your agency's previous experience assessing and providing supportive services to homeless Veterans in transitional housing.

4. Ability—Describe your agency's previous experience in assessing supportive service resources and entitlement benefits.

5. Ability—Describe your agency's previous experience with evaluating the progress of both individual participants and overall program effectiveness through using quality and performance data to make changes. Provide documentation of meeting past performance goals.

(d) Need—In approximately 5 pages, describe, using reliable data from survey of homes population or other reports or data gathering mechanisms, the substantial unmet needs particularly among your targeted Veteran population and those needs of the general homeless population. Also, describe why your agency chose this model of transitional housing. Include in your response how your agency determined the number of beds needed, or, for service centers, include how your agency determined the anticipated numbers of participation. How does this project model meet a need for the community and fit with the community's strategy to end homeless in the community?

(e) Coordination—In approximately 5 pages, describe and provide evidence of your agency's involvement in the homeless Veteran continuum.

1. Coordination—Provide documented evidence that your agency is part of an ongoing community-wide planning process.

2. Coordination—How is your process designed to share information on available resources and reduce duplication among programs that serve special need homeless Veterans (i.e. letter of support from your local continuum of care)?

3. Coordination—How is your agency part of an ongoing community-wide planning process that is designed to share information on available resources and reduce duplication among programs that serve homeless Veterans?

4. Coordination—How has your agency coordinated GPD services with other programs offered in the Continuum(s) of Care (CoC) they currently serve?

5. Coordination—Provide documented evidence that your agency consulted directly with the closest VA Medical Center Director regarding coordination of services for project participants; provide your plan to assure access to health care, case management, and other care services.

(f) Site Description—In one page, describe the availability of current housing stock in your community that would be appropriate for this program and would meet the standards required by Life Safety Code and 38 CFR 61.1-61.82. Describe whether the sites are scattered or in apartment complexes, provide a service area for the project, and, if available, provide a proposed or current address for the housing.

Applicants should be careful to complete the proper application package. Submission of an incorrect or incomplete application package will result in the application being rejected. Application packages must include all required forms and certifications. Selections will be made based on criteria described in the application, Final Rule, and NOFA.

Awardees will be required to support their request for payments with adequate fiscal documentation as to project income and expenses. Awardee agencies that have a negotiated Indirect Cost Agreement (IDC) must provide a copy of the IDC with this application if they wish to charge indirect costs to the grant. Without this document, only the de minims rate would be allowed for indirect costs. All other costs will be considered only if they are direct costs.

Applicants who are conditionally selected will be notified of any additional information needed to confirm or clarify information provided in the application. Applicants will then be notified of the deadline to submit such information. If an applicant is unable to meet any conditions for grant award within the specified time frame, VA reserves the right to ot award funds nd to use the funds available for other grant and per diem applicants.

Submission Dates and Times: An original signed, dated, completed, and application (plus two completed collated copies) and all required associated documents must be received in the GPD Program Office, VA Homeless Providers GPD Program Office, 10770 N. 46th Street, Suite C-200, Tampa, Florida 33617; by 4:00 p.m. Eastern Standard Time on Wednesday, February 21, 2018.

In the interest of fairness to all competing applicants, this deadline is firm as to date and hour, and VA will treat any application that is received after the deadline as ineligible for consideration. Applicants should take this firm deadline into account and make early submission of their material to avoid any risk of loss of eligibility as a result of unanticipated delays or other delivery-related problems. For applications physically delivered(.e.g., in person, or via United States Postal Service, FedEx, United Parcel Service, or any other type of courier), the VA GPD Program Office staff will accept the application and date stamp it immediately at the time of arrival. This is the date and time that will determine if the deadline is met for those types of delivery.

Applications must be received by the application deadline. Applications must arrive as a complete package to include VA collaborative partner materials (see application requirements). Materials arriving separately will not be included in the application package for consideration and may result in the application being rejected or not funded.

DO NOT fax or email the application, as applications received via these means will be ineligible for consideration.

Award Notice: Although subject to change, the GPD Program Office expects the announcement of grant awards during the late fourth quarter of fiscal year 2018 (September). The initial announcement will be made via news release, which will be posted on the GPD Web site at www.va.gov/homeless/gpd.asp. Following the initial announcement, the Grant and Per Diem Office will mail a notification letter to the grant recipients. Applicants that are not selected will be mailed a declination letter within 2 weeks of the initial announcement.

Administrative and National Policy: It is important to be aware that VA places great emphasis on responsibility and accountability. VA has procedures in place to monitor services provided to homeless Veterans and outcomes associated with the services provided in grant and per diem-funded programs. Applicants should be aware of the following:

All awardees that are selected in response to this NOFA must meet the requirements of the current edition of the Life Safety Code of the National Fire Protection Association as it relates to their specific facility. Applicants should note that all facilities are to be protected throughout by an approved automatic sprinkler system unless a facility is specifically exempted under the Life Safety Code. Applicants should consider this when submitting their grant applications, as no additional funds will be made available for capital improvements under this NOFA.

Each program receiving funding will have a liaison appointed from a nearby VA medical facility to provide oversight and monitor services provided to homeless Veterans in the program.

Monitoring will include, at a minimum, a quarterly review of each per diem program's progress toward meeting VA's performance metrics in helping Veterans attain housing stability, adequate income support, and self-sufficiency as identified in each per diem application. Monitoring will also include a review of the agency's income and expenses as they relate to this project to ensure payment is accurate.

Each funded program will participate in VA's national program monitoring and evaluation, as these monitoring procedures will be used to determine successful accomplishment of housing, employment, and self-sufficiency outcomes for each per diem-funded program.

Signing Authority

The Secretary of Veterans Affairs, or designee, approved this document and authorized the undersigned to sign and submit the document to the Office of the Federal Register for publication electronically as an official document of the Department of Veterans Affairs. David J. Shulkin, Secretary of Veterans Affairs, approved this document on October 31, 2017, for publication.

Dated: October 31, 2017.
Jeffrey Martin,
Office Program Manager, Office of Regulation Policy & Management, Office of the Secretary, Department of Veterans Affairs.

[FR Doc. 2017-24086 Filed 11-3-17; 8:45 am]

BILLING CODE 8320-01-P